NATIONAL ARCHIVES AND RECORDS ADMINISTRATION

[NARA-2014-031]

Agency Information Collection Activities: Proposed Collection; Comment Request

AGENCY: National Archives and Records Administration (NARA).

ACTION: Notice.

SUMMARY: NARA is giving public notice that the agency proposes to request use of a voluntary survey of visitors to the National Archives Experience (NAE) in Washington, DC. NARA will use the information to determine how the various components of the NAE affect visitors' level of satisfaction with the NAE and how effectively the venues communicate that records matter. The information will support adjustments in our offerings that will improve the overall visitor experience. NARA invites the public to comment on the proposed information collection pursuant to the Paperwork Reduction Act of 1995.

DATES: Written comments must be received on or before July 28, 2014 to be assured of consideration.

ADDRESSES: Comments should be sent to: Paperwork Reduction Act Comments (ISSD), Room 4400, National Archives and Records Administration, 8601 Adelphi Rd, College Park, MD 20740-6001; or faxed to 301-713-7409; or electronically mailed to tamee.fechhelm@nara.gov.

FOR FURTHER INFORMATION CONTACT: Please direct requests for additional information, copies of the proposed information collection, or copies of the supporting statement to Tamee Fechhelm at telephone number 301-837-1694, or fax number 301-713-7409.

SUPPLEMENTARY INFORMATION: Pursuant to the Paperwork Reduction Act of 1995 (Pub. L. 104-13), NARA invites the general public and other Federal agencies to comment on proposed information collections. The comments and suggestions should address one or more of the following points: (a) Whether the proposed information collection is necessary for the proper performance of the functions of NARA; (b) the accuracy of NARA's estimate of the burden of the proposed information collection; (c) ways to enhance the quality, utility, and clarity of the information to be collected; (d) ways to minimize the burden of the collection of information on respondents, including the use of information technology; and (e) whether small businesses are affected by this collection. NARA will summarize submitted comments and include the summary in NARA's request for Office of Management and Budget (OMB) approval of the information collection. All comments will become a matter of public record. In this notice, NARA is soliciting comments concerning the following information collection:

Title: NARA Visitors Study

OMB number: 3095-0067

Agency form number: N/A

Type of review: Regular

Affected public: Visitors to the National Archives Experience in Washington, DC

Estimated number of respondents: 200

Estimated time per response: 12 minutes

Frequency of response: On occasion (when a person visits the NAE in Washington, DC)

Estimated total annual burden hours: 40 hours

Abstract: The general purpose of this voluntary data collection is to benchmark the performance of the NAE in relation to other history museums. Information collected from visitors will assess overall impact, expectations, presentation, logistics, motivation, demographic profile, and learning experience. Once NARA has analyzed it, this collected information will assist NARA in determining the NAE's success in achieving its goals.

Dated: May 19, 2104.
Swarnali Haldar,
Acting Executive for Information Services/CIO.

[FR Doc. 2014-12145 Filed 5-23-14; 8:45 am]

BILLING CODE 7515-01-P